DEPARTMENT OF STATE

[Public Notice: 12124]

Notice of Department of State Sanctions Actions

SUMMARY: The Secretary of State has imposed sanctions on three individuals.

DATES: The Secretary of State's determination and imposition of sanctions on the three individuals identified in the SUPPLEMENTARY INFORMATION section were effective on March 3, 2023.

FOR FURTHER INFORMATION CONTACT: Jim Mullinax, Director, Office of Economic Sanctions Policy and Implementation, Bureau of Economic and Business Affairs, Department of State, Washington, DC 20520, tel.: (202) 647 7677, email: MullinaxJD@state.gov.

SUPPLEMENTARY INFORMATION: Pursuant to section 1 of E.O. 14024, all property and interests in property that are in the United States, that hereafter come within the United States, or that are or hereafter come within the possession or control of any United States person of the following persons are blocked and may not be transferred, paid, exported, withdrawn, or otherwise dealt in: (a) any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) to be or have been a leader, official, senior executive officer, or member of the board of directors of: (A) the Government of the Russian Federation.

The Secretary of State has determined, pursuant to section 1(a)(iii)(A) of E.O. 14024, that Ilya Pavlovich Kozlov, Diana Igorevna Mishchenko, and Oleg Mikhailovich Sviridenko to be or have been leaders, officials, senior executive officers, or members of the board of directors of the Government of the Russian Federation.

Pursuant to E.O. 14024, these individuals have been added to the Specially Designated Nationals and Blocked Persons List. All property and interests in property of these individuals subject to U.S. jurisdiction are blocked.

Whitney Baird,
Principal Deputy Assistant Secretary, Bureau of Economic and Business Affairs, Department of State.

[FR Doc. 2023-17646 Filed 8-16-23; 8:45 am]

BILLING CODE 4710-AE-P